DEPARTMENT OF TRANSPORTATION

Federal Aviation Administration

Fourth Meeting: RTCA Special Committee 210, Cabin Management Systems

AGENCY: Federal Aviation Administration (FAA), DOT.

ACTION: Notice of RTCA Special Committee 210, Cabin Management System.

SUMMARY: The FAA is issuing this notice to advise the public of a meeting of RTCA Special Committee 210, Cabin Management.

DATES: The meeting will be held October 23-25, 2007 from 9-5 p.m.

ADDRESSES: The meeting will be held at RTCA, Inc., 1828 L Street, NW., Suite 805, Washington, DC 20036, ARINC, Colson & Garmin Rooms.

FOR FURTHER INFORMATION CONTACT: (1) RTCA Secretariat, 1828 L Street, NW., Suite 805, Washington, DC 20036; telephone (202) 833-9339; fax (202) 833-9434; Web site http://www.rtca.org.

SUPPLEMENTARY INFORMATION: Pursuant to section 10(a)(2) of the Federal Advisory Committee Act (Pub. L. 92-463, 5 U.S.C. Appendix 2), notice is hereby given for a Special Committee 210, Cabin Management Systems meeting. The agenda will include:

• October 23:

• Opening Plenary Session (Welcome, Introductions, and Administrative Remarks, Review of Agenda).

• Approval of Summary of the Third held August 1-2, 2007, RTCA Paper No. 213-07/SC210-007.

• PMC Update—RTCA.

• Regulatory Update.

• FAA.

• Transport Canada.

• EUROCAE/ICAO.

• TSO 138 (Miscellaneous Non-Required Equipment) Discussion.

• Discussion of Applicability of Wireless Cabin Equipment.

• Reports from Working Groups.

• Current Status (accomplishments since last plenary) except WG-1 to be complete and members to join other WGs.

• Objective for this plenary.

• Review of WG Project Schedule.

• Overall direction for Working Groups (Chair).

• Organization Items; Leadership, WG Structure, etc.

• Project End Date for Communication to PMC.

• Close Plenary Meeting.

• Break-up for Specific Working Group Sessions.

• Working Group 1, Document Review/Assessment, Garmin Room.

• Working Group 2, Cabin Management Function Classification, ARINC Room.

• Working Group 3, Commercial off-the-Shelf (COTS) Assessment, Colson Room.

• Close out of day's activities.

• Items for group discussion/resolution.

• Review of tomorrow's activities.

• October 24:

• Continue Specific Working Group Session.

• WG-2, Cabin Management Function Classification.

• WG-3, Commercial off-the-Shelf (COTS) Assessment.

• Close out of day's activities.

• Items for Group Discussion/Resolution.

• Review of tomorrow's activities.

• October 25:

• Continue Specific Working Group Sessions.

• WG-2, Cabin Management Function Classification.

• WG-3, Commercial off-the-Shelf (COTS) Assessment.

• Convene to Continue Plenary Meeting.

• Reports from Working Group Chairs.

• Current Status (accomplishments during plenary).

• Discussion/Resolution of outstanding issues.

• Anticipated accomplishments by next plenary and plan to achieve.

• Discussion of document creation and text writing assignments.

• Document Structure/Review.

• Assignment of Responsibilities.

• Closing Plenary Session (Other Business, Establish Agenda for Next Meeting, Date, and Place of Next Meeting, Adjourn).

Attendance is open to the interested public but limited to space availability. With the approval of the chairmen, members of the public may present oral statements at the meeting. Persons wishing to present statements or obtain information should contact the person listed in the for further information contact section.

Members of the public may present a written statement to the committee at any time.

Issued in Washington, DC, on October 1, 2007.
Robert L. Bostiga,
RTCA Advisory Committee (Acting).

[FR Doc. 07-5150 Filed 10-17-07; 8:45 am]

BILLING CODE 4910-13-M